FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 6, 2016.

A. Federal Reserve Bank of San Francisco (Gerald C. Tsai, Director, Applications and Enforcement) 101 Market Street, San Francisco, California 94105-1579:

1. First Financial Northwest Foundation and the First Financial Northwest ESOT, both of Renton, Washington; to retain and acquire additional voting shares of First Financial Northwest, Inc., and thereby indirectly acquire shares of First Financial Northwest Bank, both of Renton, Washington.

2. The Living Trust for the Benefit of Stephanie M. Smith, Helen Langer Smith, and Cynthia L. Smith; Kitsap, Washington, as Trustees for the Living Trust for the Benefit of Stephanie M. Smith; and Michael K. Pigors, Memphis, Tennessee, to retain additional shares of Olympic Bancorp, Inc., and thereby indirectly retain voting shares of Kitsap Bank, both of Port Orchard, Washington.

B. Federal Reserve Bank of Chicago (Colette A. Fried, Assistant Vice President) 230 South LaSalle Street, Chicago, Illinois 60690-1414:

1. Arthur C. Johnson as trustee of the Arthur C. Johnson Bank Stock Trust; Ada, Michigan; the Arthur C. Johnson Bank Stock Trust, Ada, Michigan; Lynnea K. Gery, LaGrange, Illinois, as trustee and Arthur C. Johnson as special trustee of the Charles and Lois Welling Family Trust, Patricia A. Johnson as trustee of the Patricia A. Johnson Bank Stock Trust, the Patricia A. Johnson Bank Stock Trust, all of Ada, Michigan; Erik T. Johnson, Rockford, Michigan; Hilary L. Ciesielski, Canton, Michigan; Bonnie K. Miller, individually, and as trustee of the Bonnie K. Miller Bank Stock Trust, the Bonnie K. Miller Bank Stock Trust, Legacy Trust as trustee of the Arthur C. Johnson Irrevocable Trust, the Arthur C. Johnson Irrevocable Trust, Legacy Trust as trustee of the Patricia A. Johnson Irrevocable Trust, and the Patricia A. Johnson Irrevocable Trust, all of Grand Rapids, Michigan; the Charles and Lois Welling Family Trust, Charles J. Welling and Lois M. Welling as trustees of the Charles and Lois Welling Bank Stock Trust, the Charles and Lois Welling Bank Stock Trust, all of Hutchinson Island, Florida; and Patlin Leasing Company, as a group acting in concert to retain voting shares of United Community Financial Corporation, and indirectly shares of United Bank of Michigan, both of Grand Rapids, Michigan.

Board of Governors of the Federal Reserve System, August 18, 2016.
Margaret M. Shanks,
Deputy Secretary of the Board.

[FR Doc. 2016-20201 Filed 8-23-16; 8:45 am]

BILLING CODE 6210-01-P